DEPARTMENT OF ENERGY

Federal Energy Regulatory Commission

18 CFR Parts 157, 260, and 284

[Docket Nos. RM96-1-038 and RM14-2-003; Order No. 587-W]

Standards for Business Practices of Interstate Natural Gas Pipelines; Coordination of the Scheduling Processes of Interstate Natural Gas Pipelines and Public Utilities

AGENCY: Federal Energy Regulatory Commission.

ACTION: Final rule.

SUMMARY: The Federal Energy Regulatory Commission (Commission) is amending its regulations to incorporate by reference the latest version (Version 3.0) of seven business practice standards adopted by the Wholesale Gas Quadrant of the North American Energy Standards Board (NAESB) applicable to interstate natural gas pipelines. These updated business practice standards contain and supplement the revisions to the NAESB scheduling standards accepted by the Commission in Order No. 809 as part of the Commission's efforts to harmonize gas-electric scheduling coordination, and are required to be implemented on April 1, 2016, the same date as the regulations adopted in Order No. 809. In addition, the updated standards revise the codes used to identify receipt and delivery locations in the Index of Customers. Further, for consistency with the revisions to the Index of Customers, the Commission is also amending its regulations to make conforming changes to the Commission's regulations on interstate natural gas pipeline filings and postings.

DATES: This rule will become effective December 2, 2015. Implementation of these standards is required on April 1, 2016. The incorporation by reference of certain publications listed in this rule is approved by the Director of the Federal Register as of December 2, 2015.

FOR FURTHER INFORMATION CONTACT: Stanley Wolf (technical issues), Office of Energy Policy and Innovation, Federal Energy Regulatory Commission, 888 First Street NE., Washington, DC 20426, Telephone: (202) 502-6841, Email: stanley.wolf@ferc.gov.

Oscar F. Santillana (technical issues), Office of Energy Market Regulation, Federal Energy Regulatory Commission, 888 First Street NE., Washington, DC 20426, Telephone: (202) 502-6392,Email: oscar.santillana@ferc.gov.

Gary D. Cohen (legal issues), Office of the General Counsel, Federal Energy Regulatory Commission, 888 First Street NE., Washington, DC 20426, Telephone: (202) 502-8321,Email: gary.cohen@ferc.gov.

SUPPLEMENTARY INFORMATION:

Order No. 587-W

Final Rule

Table of Contents

| Paragraph Numbers
I. Background | 4
II. Discussion | 12
A. Incorporation by Reference of the NAESB Standards | 12
1. The NAESB WGQ Version 3.0 Business Practice Standards | 12
2. NAESB's Process | 14
3. NOPR Proposal | 15
4. Comments | 16
5. Commission Determination | 17
6. Required Compliance Filings | 18
B. Use of Proprietary Codes To Replace Common Codes | 19
1. NOPR Proposal | 19
2. Comments | 21
3. Commission Determination | 22
C. Index of Customers | 24
1. Filing Format | 24
a. NOPR Proposal | 24
b. Comment | 25
c. Commission Determination | 26
2. Index of Customers Instruction Manual | 27
a. NOPR Proposal | 27
b. Comments | 28
c. Commission Determination | 31
D. Cross-References/Conforming Changes | 36
1. NOPR Proposal | 36
2. Comments | 37
3. Commission Determination | 38
III. Implementation Schedule | 40
IV. Notice of Use of Voluntary Consensus Standards | 43
V. Incorporation By Reference | 45
VI. Information Collection Statement | 47
VII. Environmental Analysis | 53
VIII. Regulatory Flexibility Act | 54
IX. Document Availability | 56
X. Effective Date and Congressional Notification | 59

Order No. 587-W

Final Rule

(Issued October 16, 2015)

1. In this final rule, the Federal Energy Regulatory Commission (Commission) amends its regulations at 18 CFR 284.12 to incorporate by reference the latest version (Version 3.0) of seven business practice standards applicable to interstate natural gas pipelines adopted by the Wholesale Gas Quadrant (WGQ) of the North American Energy Standards Board (NAESB). Interstate natural gas pipelines are required to implement these standards April 1, 2016.

2. The NAESB WGQ Version 3.0 package of standards includes standards governing coordination of the scheduling processes of interstate natural gas pipelines and public utilities that the Commission incorporated by reference in Docket No. RM14-2-000.¹ These updated business practice standards will replace the earlier version of these business practice standards that previously were incorporated by reference. The standards also revise the codes used to identify receipt and delivery locations in the Index of Customers. In addition, for consistency with the revisions to the Index of Customers, the Commission is also amending its regulations at 18 CFR 157.14, 157.18, 260.8, and 284.13 to have receipt and delivery point information in various interstate natural gas pipeline filings and postings use the same location point names as provided for in the NAESB WGQ Version 3.0 Standards. Finally, we also are making conforming changes to 18 CFR 284.126.

¹ Coordination of the Scheduling Processes of Interstate Natural Gas Pipelines and Public Utilities, Order No. 809, Final Rule, 80 FR 23197 (Apr. 24, 2015), FERC Stats. & Regs. ¶ 31,368 (Order No. 809).

3. In addition, the Commission terminates, as moot, the proceeding in Docket No. RM14-2-003, as the standard corrections NAESB filed in Docket No. RM14-2-003 are included as part of the Version 3.0 standards that the Commission is incorporating by reference here, with the same implementation date of April 1, 2016.

I. Background

4. Since 1996, the Commission has adopted regulations to standardize the business practices and communication methodologies of interstate natural gas pipelines to create a more integrated and efficient pipeline grid. These regulations have been promulgated in the Order No. 587 series of orders,² wherein the Commission has incorporated by reference standards for interstate natural gas pipeline business practices and electronic communications that were developed and adopted by NAESB's WGQ. Upon incorporation by reference, this version of these standards will become part of the Commission's regulations and compliance by interstate natural gas pipelines will become mandatory and will replace the earlier version of these standards that the Commission previously incorporated by reference in 2012.³

² This series of orders began with the Commission's issuance of Standards for Business Practices of Interstate Natural Gas Pipelines, Order No. 587, FERC Stats. & Regs. ¶ 31,038 (1996).

³ Standards for Business Practices of Interstate Natural Gas Pipelines, Final Rule, Order No. 587-V, FERC Stats. & Regs. ¶ 31,332 (2012) (Order No. 587-V).

5. On July 23, 2013, as corrected on July 25, 2013, NAESB filed a report informing the Commission that it had adopted and ratified Version 2.1 of its business practice standards applicable to natural gas pipelines. NAESB reported that the WGQ reviewed, at the request of the industry, the necessity of maintaining the current location common codes system to determine if the system provides a significant benefit to the industry and should be continued.⁴ NAESB (in its previous corporate incarnation as the Gas Industry Standards Board) adopted a system of registering common codes to identify interconnection points between pipelines using a single code for the shared point. The industry chose an independent third party to assign and maintain the common code database.

⁴ NAESB Version 2.1 Report dated July 23, 2013 (NAESB Version 2.1 Report). As explained in the NAESB Version 2.1 Report, this request was received by NAESB in November 2010 and was included by the NAESB Board of Directors in the 2011 WGQ Annual Plan as part of Item No. 7 and as part of the 2012 WGQ Annual Plan Item No. 8. See NAESB Version 2.1 Report at 3. The proposed modifications made in response to this request were developed by the WGQ's Business Practices Subcommittee and jointly by the Information Requirements/Technical Subcommittees.

6. NAESB reported that, after extensive discussions, the WGQ reached the conclusion that the NAESB WGQ Standards should no longer support the location common codes system, as the NAESB membership concluded that the system provided little commercial benefit to the industry at large. Consistent with this determination, the Version 2.1 Standards added seven new standards, modified six standards, and deleted three standards to match up with a transition from common codes to the proprietary codes used by interstate pipelines to identify points.⁵ These will be the codes assigned by the transportation service providers for the identification of locations.⁶ The standards require pipelines to post sufficient information on their Web sites to permit shippers and the Commission to identify the interconnection points between pipelines that were previously identified through the common codes.

⁵ NAESB Version 2.1 Report at 2.

⁶ Id. at 4.

7. Additionally, as requested by the Commission in Order No. 587-V,⁷ NAESB modified the standards to include reporting requirements for “Design Capacity” for each location by transportation service providers.⁸ Other changes to the existing standards were made at the request of industry. These include changes to the NAESB WGQ Additional Standards, Nominations Related Standards, Flowing Gas Related Standards, Invoicing Related Standards, Quadrant Electronic Delivery Mechanism Standards, Capacity Release Related Standards, and Data Set Standards.⁹ NAESB further reported on the changes it made to the NAESB WGQ Interpretations and Contracts and Manuals that the Commission has declined to incorporate by reference in past Final Rules.¹⁰ NAESB also reported on all the minor corrections it made to the standards since Version 2.0 of the Standards.¹¹ Finally, NAESB reported on items that it considered changing but on which it took no action.¹²

⁷ See supra n.3.

⁸ NAESB Version 2.1 Report at 2-3.

⁹ Id. at 3.

¹⁰ See, e.g., Order No. 587-V, FERC Stats. & Regs. ¶ 31,332 at n.11.

¹¹ NAESB Version 2.1 Report at 18.

¹² Id. at 17-18.

8. On November 14, 2014, NAESB filed a report informing the Commission that it had adopted and ratified Version 3.0 of its business practice standards applicable to natural gas pipelines. NAESB reported that all of the modifications made in the Version 2.1 Standards are included in the Version 3.0 Standards and thus no action is needed on the Version 2.1 Standards.¹³ The Version 3.0 Standards introduced modifications to the standards to support efforts to harmonize gas-electric scheduling coordination that NAESB had separately filed and that the Commission incorporated by reference in Order No. 809.¹⁴ In addition, the Version 3.0 Standards contain revisions to the capacity release standards regarding posting requirements for offers to purchase released capacity that were the subject of the Commission's order to show cause in Docket No. RP14-442-000.¹⁵ Other revisions in the Version 3.0 Standards are: (1) Revisions to the standards to define “Operating Capacity” and “Design Capacity” in response to the Commission request in Order No. 587-V; ¹⁶ (2) elimination of the WGQ Interpretations, which the Commission has long declined to incorporate by reference; (3) modifications to standards to reflect the elimination of the WGQ's interpretations of the standards; (4) modifications for maintenance purposes, which includes changes to eliminate the appearance of the electronic data interchange in the imbalance trading process; (5) modifications to reflect new data elements; and (6) edits for clarity and to increase user-friendliness. The Version 3.0 standards have also been revised to include 29 minor corrections.¹⁷

¹³ NAESB Version 3.0 Report dated November 14, 2014 (NAESB Version 3.0 Report) at 2.

¹⁴ See supra n.1.

¹⁵ Posting of Offers to Purchase Capacity, 146 FERC ¶ 61,203, at P 6 (2014) (Show Cause Order); B-R Pipeline Co., 149 FERC ¶ 61,031 (2014) (order accepting compliance filings).

¹⁶ Order No. 587-V, FERC Stats. & Regs. ¶ 31,332 at P 8.

¹⁷ The NAESB Version 3.0 Report also provides information on other NAESB activities and tools unrelated to standards development. A complete listing of all the revisions made in NAESB's WGQ Version 3.0 Business Practice Standards to NAESB's prior business practice standards can be found in the Appendix to the Version 3.0 NOPR, 80 FR 43987, FERC Stats. & Regs. ¶ 32,708 at 34,767.

9. On July 7, 2015, NAESB filed a report informing the Commission that it made errata corrections to the WGQ Version 3.0 Business Practice Standards.¹⁸ These corrections incorporated a 9:00 a.m. Central Clock Time (CCT) start to the gas operating day, consistent with the Commission's findings in Order No. 809 ¹⁹ and also corrected other minor errors.

¹⁸ NAESB adopted two minor corrections, MC15009 and MC15012, approved on April 30, 2015 and May 29, 2015, respectively.

¹⁹ Order No. 809, FERC Stats. & Regs. ¶ 31,368 at P 171.

10. On July 16, 2015, the Commission issued a Notice of Proposed Rulemaking (Version 3.0 NOPR) proposing to amend its regulations to incorporate by reference, with certain enumerated exceptions, the NAESB Version 3.0 business practice standards (referenced above) applicable to natural gas pipelines.²⁰ In addition, the Version 3.0 NOPR proposed certain conforming changes to the Commission's regulations at 18 CFR 157.14 and 157.18 (dealing with exhibits) and 260.8 (dealing with system flow diagrams).

²⁰ Standards for Business Practices of Interstate Natural Gas Pipelines, Notice of Proposed Rulemaking, 80 FR 43979 (July 24, 2015), FERC Stats. & Regs. ¶ 32,708 (July 16, 2015) (Version 3.0 NOPR).

11. In response to the Version 3.0 NOPR, comments were filed by three commenters. All three commenters express support for the Commission's proposal to incorporate by reference NAESB's Version 3.0 business practice standards. Tennessee Valley Authority (TVA) comments that it fully supports the full package of revisions reflected in the NAESB Version 3.0 Standards that are subject to the NOPR. Interstate Natural Gas Association of America (INGAA) comments that it “supports the Commission's proposal to amend its regulations to incorporate by reference Version 3.0 of the business practice standards adopted by [NAESB's WGQ] applicable to natural gas pipelines,” subject to a few suggested modifications.²¹ It supports the Version 3.0 NOPR's proposal to introduce the use of proprietary location codes and to discontinue the use of industry common codes, but it offers suggested minor modifications to the regulatory text accomplishing this transition. Southern Star Central Gas Pipeline (Southern Star), likewise, comments that it “supports the incorporation by reference of the NAESB WGQ Version 3.0 business practice standards in 18 CFR § 284.12 as proposed.” ²² “[H]owever, Southern Star asks the Commission to clarify its proposed corresponding changes to 18 CFR 157.14, 157.18, 260.8, and 284.13 to avoid confusion and ensure consistent compliance with the regulations.” ²³ In the discussion below, we will address the comments in greater detail. In addition, on September 25, 2015, NAESB filed a report with the Commission in Docket No. RM96-1-038 announcing that it had made additional minor corrections.²⁴ In this Final Rule, the version of the NAESB WGQ business practice standards that we are incorporating by reference into our regulations will include these additional minor corrections.

²¹ INGAA at 1.

²² Southern Star at 2.

²³ Id.

²⁴ MC15003, MC15004, and MC15005, which were adopted by the WGQ Executive Committee on April 9, 2015.

II. Discussion

A. Incorporation by Reference of the NAESB Standards

1. The NAESB WGQ Version 3.0 Business Practice Standards

12. The NAESB WGQ Version 3.0 Business Practice Standards made a number of changes to the earlier version of those standards that the Commission previously incorporated by reference in 2012 in Order No. 587-V.²⁵ Notable among these changes was a change, made at the request of the industry, to introduce the use of proprietary codes to identify the location of points of receipt and delivery. Consistent with this determination, the Version 2.1 Standards added seven new standards, modified six standards, and deleted three standards to match up with a transition from common codes to proprietary codes. Under the new standards, each transportation service provider assigns the proprietary codes it will use to identify the locations of its points of receipt and delivery. The standards require pipelines to post sufficient information on their Web sites to permit shippers and the Commission to identify the interconnection points between pipelines that were previously identified through the common codes.

²⁵ Standards for Business Practices of Interstate Natural Gas Pipelines, Order No. 587-V, FERC Stats. & Regs. ¶ 31,332 (2012).

13. Additionally, as requested by the Commission in Order No. 587-V,²⁶ NAESB modified the standards to include reporting requirements for “Design Capacity” for each location by transportation service providers. Other changes to the existing standards were made at the request of industry. These include changes to the NAESB WGQ Additional Standards, Nominations Related Standards, Flowing Gas Related Standards, Invoicing Related Standards, Quadrant Electronic Delivery Mechanism Standards, Capacity Release Related Standards, and Data Set Standards. NAESB further reports on the changes it made to the NAESB WGQ Interpretations and Contracts and Manuals that the Commission has declined to incorporate by reference in past final rules.²⁷ NAESB's Version 3.0 report also identified the minor corrections it made to the standards since Version 2.0 of the Standards.

²⁶ Id. P 30.

²⁷ See, e.g., id. n.11.

2. NAESB's Process

14. NAESB used its consensus procedures to develop and approve the Version 3.0 Standards. As the Commission found in Order No. 587, the adoption of consensus standards is appropriate because the consensus process helps ensure the reasonableness of the standards by requiring that the standards draw support from a broad spectrum of industry participants representing all segments of the industry. Moreover, since the industry itself has to conduct business under these standards, the Commission's regulations should reflect those standards that have the widest possible support. In section 12(d) of the National Technology Transfer and Advancement Act of 1995 (NTT&AA), Congress affirmatively requires federal agencies to use technical standards developed by voluntary consensus standards organizations, like NAESB, as means to carry out policy objectives or activities determined by the agencies unless an agency determines that the use of such standards would be inconsistent with applicable law or otherwise impractical.

3. NOPR Proposal

15. In the Version 3.0 NOPR, the Commission proposed to incorporate by reference, in its regulations, Version 3.0 of the NAESB WGQ's consensus business practice standards, with the exception of NAESB's standards specifying the terms of optional model contracts and its eTariff-related standards.²⁸

²⁸ Version 3.0 NOPR, 80 FR 43982, FERC Stats. & Regs. ¶ 32,708 at P 20.

4. Comments

16. As explained above, all of the commenters supported the Commission's proposal to incorporate by reference the NAESB WGQ Version 3.0 business practice standards as proposed in the Version 3.0 NOPR.²⁹

²⁹ See discussion at P 11, supra.

5. Commission Determination

17. After a review of the comments filed in response to the Version 3.0 NOPR, the Commission is amending Part 284 of its regulations to incorporate by reference seven of the NAESB WGQ's Version 3.0 business practice standards. Further, as explained in the Version 3.0 NOPR, we are not incorporating by reference the NAESB WGQ's optional model contracts and eTariff-related standards.³⁰ In the discussion below, we also will discuss the various comments suggesting modifications to the regulatory text proposed in the Version 3.0 NOPR in the conforming changes we proposed to other provisions of our regulations.

³⁰ We are also, as discussed in Section II.D below, making a number of conforming changes in other provisions of our regulations, for consistency with our action here.

6. Required Compliance Filings

18. To implement the standards we are incorporating by reference in this Final Rule, we will require each interstate natural gas pipeline to file a separate tariff record reflecting the changed standards by February 1, 2016, to take effect on April 1, 2016, and the natural gas pipelines will be required to comply with these standards on and after April 1, 2016.³¹

³¹ To aid in compliance, promptly after issuance of this Final Rule, the Commission will post a sample tariff record on the Commission's Web site that may be accessed at http://www.ferc.gov/docs-filing/elibrary.asp. All pipelines are to file their tariff records in conformance with this sample tariff record.

B. Use of Proprietary Codes To Replace Common Codes

1. NOPR Proposal

19. As explained in the Version 3.0 NOPR, at industry's request, NAESB reviewed the location common codes system and concluded that the NAESB WGQ Business Practice Standards should no longer support the location common codes system, as the NAESB membership concluded that the system provided little commercial benefit to the industry at large.³² The industry determined that having a third party maintain a common code database is not worth the expense and effort and revised the standards to introduce the use of proprietary codes to identify the location of points of receipt and delivery. The revised standards include requirements to replace much of the information previously contained in the third party database. These standards require interstate pipelines to post on their internet Web sites information on each of the proprietary points that can be used among other things to determine which points are interconnecting points, one of the primary reasons for adoption of the common code database.

³² Version 3.0 NOPR, FERC Stats. & Regs. ¶ 32,708 at P 4.

20. In the Version 3.0 NOPR, the Commission proposed to incorporate by reference the standards that revised the prior standards to introduce the use of proprietary codes to identify the location of points of receipt and delivery and that included requirements for the pipelines to post on their Web sites information on each of the proprietary points that can be used to determine which points are interconnecting points between pipelines.³³ We also proposed that these same codes be used by the Commission in its Index of Customers to identify the points on shippers' contracts and we proposed to revise § 284.13(c) of the regulations to assure that these provisions operate in harmony.³⁴ In the NOPR, we proposed to revise the Commission's regulations at § 284.13(c)(2)(vi) to reflect the use of the term “location code” rather than “industry common code” to identify the location of receipt and delivery points, and we also proposed to require pipelines to post information on their internet Web site regarding such location points, including the coordinates of each point, and an identification of the upstream or downstream entity, if any, at that point, and date the point becomes active or inactive.³⁵

³³ Id. PP 15-16.

³⁴ Id.

³⁵ Id. at proposed regulatory text for § 284.13(c)(2)(vi). (80 FR 43987).

2. Comments

21. Southern Star & INGAA both support the Commission's proposal to use the term “location code,” rather than “industry common code” to identify the location of receipt and delivery points.³⁶ Southern Star and INGAA, however, point out that the term “common code” recurs in a number of places in the Commission's regulations other than in the Index of Customers, and contend that, as a result, the Commission should establish a separate regulation at 18 CFR 284.13(f) for the posting requirement to eliminate the need for repetition.³⁷

³⁶ INGAA at 2. Southern Star at 3.

³⁷ Southern Star at 2-3.

3. Commission Determination

22. We will incorporate by reference NAESB's standards requiring interstate pipelines to refer to location points using their own proprietary code, together with a posting of information regarding these codes on the pipelines' Web site, rather than requiring the pipelines to maintain a common code database implemented by a third party. Given the ability of the Commission and customers to continue to identify interconnection points referenced in the Index of Customers through the Web site postings, the Commission also will revise its regulations governing the filing of the Index of Customers and other regulations requiring the specification of location point codes to align with the NAESB standards.

23. We also will adopt Southern Star and INGAA's recommendations to modify the regulations to create a separate requirement at 18 CFR 284.13(f) for the posting of information regarding the location points to make cross-reference easier. Consistent with the proposal in the Version 3.0 NOPR, we are requiring interstate pipelines to file their Index of Customers using the new location names and codes for all active points. In addition, as proposed in the Version 3.0 NOPR, we are requiring pipelines to maintain and post on their Web sites a complete listing of all inactive points. Finally, for the convenience of those reviewing past Index of Customers filings, or those wishing to compare past Index of Customers filings to newer Index of Customers filings, we will post the old common code file for past indices on the Commission's Web site prior to April 1, 2016.

C. Index of Customers

1. Filing Format

a. NOPR Proposal

24. In the Version 3.0 NOPR, we explained that pipelines currently file the Index of Customers using a tab-delimited file format consistent with Form No. 549B—Index of Customers Instruction Manual.³⁸ While we did not propose any changes to that formatting in the Version 3.0 NOPR, we further explained that,

³⁸ Version 3.0 NOPR, FERC Stats. & Regs. ¶ 32,708 at P 17.

[b]ecause tab-delimited file formats can be difficult and can result in errors that impose burdens both on Commission and pipeline staff to correct, we also are adding the Index of Customers form to the list of forms that are being updated as part of the Commission's forms refresh project in Docket No. AD15-11-000 (Forms Project). Adding the Index of Customers to the Forms Project will move the Commission towards the use of a standard approach for all Commission forms that will result in more efficient filing and processing of forms.[³⁹]

³⁹ Id.

b. Comment

25. TVA comments that, while it was neutral in the past, it has come to appreciate that a user-friendly format for the Index of Customers is extremely beneficial to TVA in long-range planning. TVA asserts that, with growing staff to support the growth of gas-fired generation at TVA and counterparties, a user-friendly format for locations codes is a beneficial tool to avoid potential miscommunication of receipt and delivery points from occurring.⁴⁰

⁴⁰ TVA at 3.

c. Commission Determination

26. The transition from the current tab delimited file format for the Index of Customers information reported on Form No. 549B to a more up-to-date format will improve the efficient filing and processing of this information. As we explained in the Version 3.0 NOPR, the Commission issued an order (Forms Project Order) initiating a proceeding in Docket No. AD15-11-000 to consider the transition to a new filing format for a number of other Commission forms and has enlisted the assistance of NAESB in this endeavor.⁴¹ As we explained in Forms Project Order, the current software which the Commission requires industry to use for the electronic filing of many of the forms (Visual Fox Pro) is no longer supported by its developer.⁴² The Commission enlisted NAESB in an effort to transition to an electronic filing format based on the use of Extensible Mark-Up Language (XML), which NAESB helped to develop for electronic tariff filing.⁴³ We recognize that NAESB's highest priority is to develop the XML standards for the forms to replace the unsupported and outdated Visual Fox Pro software. While the Index of Customers can still be filed in the current tab delimited format, we agree with TVA that continued use of this format is inefficient for both the industry and the Commission. Accordingly, we request that NAESB consider revisions to the Index of Customers as part of their ongoing deliberations.

⁴¹ Electronic Filing Protocols for Commission Forms, 151 FERC ¶ 61,025 (2015).

⁴² Id. P 1.

⁴³ Electronic Tariff Filings, Order No. 714, FERC Stats. & Regs. ¶ 31,276 (2008).

2. Index of Customers Instruction Manual

a. NOPR Proposal

27. In the Version 3.0 NOPR, the Commission proposed to post on the Commission's Web site a revised instruction manual for the filing of Form No. 549B—Index of Customers.⁴⁴ As promised, after issuance of the Version 3.0 NOPR, the Commission posted the proposed revised instruction manual on its Web site. The only proposed changes to the instruction manual were to Item ID yj (Point identification Code Qualifier) and Item ID yk (Point identification Code) to specify that the new proprietary location names and codes were to be used in identifying points of receipt and delivery in the Index of Customers.

⁴⁴ Version 3.0 NOPR, FERC Stats. & Regs.¶ 32,708 at P 17 & n.26.

b. Comments

28. Southern Star and INGAA both suggest that three changes are needed to the proposed instruction manual for the Index of Customers: ⁴⁵ First, in the instructions for Item yh (the Point Identifier Code), the commenters suggest that the references to G1-Gas Transaction Point 1 and G2-Gas Transaction Point 2 should be deleted as these are antiquated codes that are no longer used in the referenced NAESB business standard.

⁴⁵ Southern Star at 5-6 and INGAA at 7-9.

29. Second, for Item yj (the Point identification Code Qualifier), the commenters suggest that the instructions should simply read “Enter 95” as all location codes will now be assigned by the pipeline (the Transportation Service Provider).

30. Third, for Item yk (the Point Identification Code), the commenters suggest that the instructions should simply read “Enter the Transportation Service Provider's Location (LOC)” as there is no longer an industry common code to enter. INGAA asserts that this item should read “Enter the pipeline's location code.” It makes this suggestion because “Pipeline” is the term utilized throughout the Instruction Manual.

c. Commission Determination

31. As to the suggestion to revise the instruction manual to delete references to references to G1 and G2 in the instructions for Item yh (the Point Identifier Code), we find this suggestion reasonable and will make this change.

32. As to the suggestion to revise the instruction manual to revise the instructions for Item yj, we see merit in this suggestion, but believe the suggested language would be clearer if it read “Enter 95 whenever item yk is the Transmission Service Provider's Location (LOC)” and will revise the instruction manual accordingly.

33. As to the suggestion to revise the instruction manual to revise the instructions for Item yk to read “Enter the Transmission Service Provider's Location (LOC),” we find this suggestion reasonable and will make this change.

34. As to the suggestion to revise the instruction manual to revise the instructions for Item yj to substitute the term “Pipeline” in lieu of the term “Transmission Service Provider,” we are not persuaded to make this revision, as the term “Transmission Service Provider” matches the terminology in the standards we are incorporating. As we did after we issued the Version 3.0 NOPR, we will post a link to the revised instruction manual on our Web site after issuance of this Final Rule.⁴⁶

⁴⁶ To aid in compliance, promptly after issuance of this Final Rule, a Revised Instruction Manual for filing Form No. 549B, Index of Customers, will be posted on the Commission's Web site and may be accessed at http://www.ferc.gov/industries/gas/indus-act/pipelines/standards.asp. All pipelines are to file their Index of Customers in accordance with the instructions provided in this manual.

35. Finally, our review of the comments also brought to our attention that Item yi (Point Name) also needs revision to reflect the transition to the use of proprietary location codes in the Version 3.0 standards. Thus, the Instructions for Item ID yi will now read as follows: “Enter the Location Name (LOC Name) of the point or facility.”

D. Cross-References/Conforming Changes

1. NOPR Proposal

36. In the Version 3.0 NOPR, the Commission proposed conforming changes to reference the new location names and codes at 18 CFR 157.14 and 18 CFR 157.18 (dealing with exhibits), in 18 CFR 260.8 (dealing with system flow diagrams), and in 18 CFR 284.13 (dealing with reporting requirements for interstate pipelines).

2. Comments

37. Along with their comments suggesting that the Commission move its proposed regulation at § 284.13(c)(2)(6) into a new subsection § 284.13(f), the commenters point out the Commission missed two references to common codes in § 284.13(b) and suggest revisions to the accompanying cross references proposed in the Version 3.0 NOPR.⁴⁷ INGAA further requests two minor additional modifications.⁴⁸ In § 157.14(a), INGAA argues that the Commission should remove the reference to Exhibit H(iv) that appears in the proposed regulatory text because Exhibit H(iv) no longer exists. In addition, INGAA requests the Commission to clarify that it did not intend to delete certain language after the asterisks in both §§ 157.14(a) and 157.18(c). Specifically, INGAA states that the Commission should revise the language at the beginning of item 2 of its proposed amendment to § 157.14(a) to state that “Section 157.14 is amended by revising the introductory language of paragraph (a) to read as follows:” (emphasis added), and insert “(1)” before the asterisks. In INGAA's view, this would remove any doubt about how much of the existing section is being replaced with the new proposed language.

⁴⁷ INGAA at 2-4, Southern Star at 3-4.

⁴⁸ INGAA at 7.

3. Commission Determination

38. Given the Commission's determination that, as proposed by the commenters, the proper provision in which to place the requirement for pipelines to use “location code” rather than “industry common code” to identify the location of receipt and delivery points is at 18 CFR 284.13(f), we will make appropriate cross-references. We agree with INGAA that the inclusion of Exhibit H(iv) in the regulatory text of proposed § 157.14(a) is in error. Reference to this exhibit was deleted in Order No. 699 as an erroneous or outdated reference.⁴⁹ Thus, we will delete any reference to Exhibit H(iv) in the regulatory text we are promulgating in this Final Rule. In addition, as requested, we will clarify that our revisions to § 157.14(a) and § 157.18(c) are not intended to delete language that follows later in these provisions.

⁴⁹ Conforming Changes, Order No. 699, FERC Stats. & Regs. ¶ 31,254 at P 10 (cross-referenced at 120 FERC ¶ 61,134 (2007)).

39. Finally, as a result of the INGAA comment that we needed to make additional conforming changes that were overlooked, we also will make a conforming change to 18 CFR 284.126 to remove the reference to common codes. Intrastate pipelines filing Form No. 549D should identify their location codes and names in their list of jurisdictional points of receipt and delivery.

III. Implementation Schedule

40. In the Version 3.0 NOPR, the Commission stated that we anticipated acting on the proposed rule in order to permit these standards to become effective April 1, 2016 at the same time as the Gas-Electric Harmonization standards, with compliance filings due February 1, 2016.⁵⁰ We explained that requiring implementation of the updated business practice standards and the Gas-Electric Harmonization standards on the same date should reduce the compliance burden on the pipelines and avoid confusion.⁵¹ We also explained our policies on tariff filings and on waiver requests.⁵²

⁵⁰ Version 3.0 NOPR, FERC Stats. & Regs. ¶ 32,708 at P 23.

⁵¹ Id.

⁵² Id. PP 23-27.

41. None of the comments took issue with the Commission's proposed implementation schedule. Nor did the comments take issue or seek clarification with regard to the Commission's explanation of its policies on tariff filings and on waiver requests. We are not modifying these policies in this Final Rule and stand by the explanation of those policies we made in the Version 3.0 NOPR. The Commission will require interstate natural gas pipelines to comply with the revised NAESB standards that we are incorporating by reference in this Final Rule beginning on April 1, 2016. Thus, among other requirements, when pipelines make their Index of Customers filing for the second quarter of 2016 and thereafter they should do so using the new location names and codes for all active points. We are requiring this implementation schedule to give the interstate natural gas pipelines subject to these standards adequate time to implement these changes. In addition, the interstate natural gas pipelines must file tariff records to reflect the changed standards by February 1, 2016.

42. In addition, consistent with the requirements in Order Nos. 587-V and 809,⁵³ the Commission is including the following compliance filing requirements to increase the transparency of the pipelines' incorporation by reference of the NAESB WGQ Standards so that shippers and the Commission will know which tariff provision(s) implements each standard as well as the status of each standard.

⁵³ Order No. 587-V, FERC Stats. & Regs. ¶ 31,332 at PP 36-37; Order No. 809, FERC Stats. & Regs. ¶ 31,368 at P 169.

(1) The pipelines must designate a single tariff record under which every NAESB standard currently incorporated by reference by the Commission is listed.⁵⁴ This section should be a separate tariff record under the Commission's electronic tariff filing requirement and should be filed electronically using the eTariff portal using the Type of Filing Code 580. The Commission will post on its eLibrary Web site (under Docket No. RM96-1-038) a sample tariff record, to provide filers an illustrative example to aid them in preparing their compliance filings; ⁵⁵

⁵⁴ See supra n.31.

⁵⁵ Id.

(2) For each standard, each pipeline must specify in the tariff record a list of all the NAESB standards currently incorporated by reference by the Commission:

(a) whether the standard is incorporated by reference;

(b) for those standards not incorporated by reference, the tariff provision that complies with the standard; ⁵⁶ and

⁵⁶ For example, pipelines are required to include the full text of the NAESB nomination and capacity release timeline standards (WGQ Standards 1.3.2(i-vi) and 5.3.2) in their tariffs. See, e.g., Standards for Business Practices of Interstate Natural Gas Pipelines, Order No. 587-U, FERC Stats. & Regs. ¶ 31,307, at P 39 & n.42 (2010). The pipeline would indicate which tariff provision complies with each of these standards.

(c) a statement identifying any standards for which the pipeline has been granted a waiver, extension of time, or other variance with respect to compliance with the standard.⁵⁷

⁵⁷ Shippers can use the Commission's electronic tariff system to locate the tariff record containing the NAESB standards, which will indicate the docket in which any waiver or extension of time was granted.

(3) If the pipeline is requesting a continuation of an existing waiver or extension of time, it must include a table in its transmittal letter that states the standard for which a waiver or extension of time was granted, and the docket number or order citation to the proceeding in which the waiver or extension was granted.

IV. Notice of Use of Voluntary Consensus Standards

43. Office of Management and Budget Circular A-119 (section 11) (February 10, 1998) provides that federal agencies should publish a request for comment in a NOPR when the agency is seeking to issue or revise a regulation proposing to adopt a voluntary consensus standard or a government-unique standard. In this Final Rule, the Commission is amending its regulations to incorporate by reference voluntary consensus standards developed by NAESB's WGQ. In section 12(d) of NTT&AA, Congress affirmatively requires federal agencies to use technical standards developed by voluntary consensus standards organizations to carry out policy objectives or activities determined by the agencies unless use of such standards would be inconsistent with applicable law or otherwise impractical.⁵⁸

⁵⁸ Pub L. No. 104-113, 12(d), 110 Stat. 775 (1996), 15 U.S.C. 272 note (1997).

44. In section 12(d) of NTT&AA, Congress affirmatively requires federal agencies to use technical standards developed by voluntary consensus standards organizations to carry out policy objectives or activities determined by the agencies unless use of such standards would be inconsistent with applicable law or otherwise impractical.

V. Incorporation by Reference

45. The Office of the Federal Register requires agencies incorporating material by reference in final rules to discuss, in the preamble of the final rule, the ways that the materials it incorporates by reference are reasonably available to interested parties and how interested parties can obtain the materials.⁵⁹ The regulations also require agencies to summarize, in the preamble of the final rule, the material it incorporates by reference. The seven NAESB standards being incorporated by reference in this Final Rule can be summarized as follows:

⁵⁹ 1 CFR 51.5. See Incorporation by Reference, 79 FR 66267 (Nov. 7, 2014).

• Additional Standards (Version 3.0, November 14, 2014, with minor corrections applied through June 29, 2015). These standards cover general areas or standards applicable to multiple business activities, such as creditworthiness and gas/electric operational communications.

• Nominations Related Standards (Version 3.0, November 14, 2014, with minor corrections applied through June 29, 2015). These standards define the business processes used to schedule natural gas service on pipelines.

• Flowing Gas Related Standards (Version 3.0, November 14, 2014, with minor corrections applied through June 29, 2015). These standards define the business processes related to the communication of entitlement rights to flowing gas at a location, the entitlement rights on a contractual basis, the management of imbalances, and the measurement and gas quality information of the actual flow of gas.

• Invoicing Related Standards (Version 3.0, November 14, 2014, with minor corrections applied through June 29, 2015). These standards define the business process for the communication of charges for services rendered (Invoice), communication of details about funds rendered in payment for services rendered (Payment Remittance), and communication of the financial status of a customer's account (Statement of Account).

• Quadrant Electronic Delivery Mechanism Related Standards (Version 3.0, November 14, 2014, with minor corrections applied through June 29, 2015). These standards establish the framework for the electronic dissemination and communication of information between parties in the North American wholesale gas marketplace for EDI/EDM transfers, batch flat file/EDM transfers, informational postings Web sites, EBB/EDM and interactive flat file/EDM.

• Capacity Release Related Standards (Version 3.0, November 14, 2014, with minor corrections applied through June 29, 2015). These standards define the business processes for communication of information related to the release or transfer of any portion of a transmission service requester's contract rights for transportation on pipelines.

• Internet Electronic Transport Related Standards (Version 3.0, November 14, 2014, with minor corrections applied through June 29, 2015). These standards define the implementation of various technologies necessary to communicate transactions and other electronic data using standard protocols for electronic commerce over the internet between NAESB trading partners.

46. Our regulations provide that copies of the NAESB standards incorporated by reference may be obtained from the North American Energy Standards Board, 801 Travis Street, Suite 1675, Houston, TX 77002, Phone: (713) 356-0060. NAESB's Web site is at http://www.naesb.org/. Copies may be inspected at the Federal Energy Regulatory Commission, Public Reference and Files Maintenance Branch, 888 First Street NE., Washington, DC 20426, Phone: (202) 502-8371, http://www.ferc.gov.⁶⁰ The procedures utilized by NAESB make its standards reasonably available to those affected by the Commission regulations.⁶¹ Participants can join NAESB, for an annual membership cost of $7,000, which entitles them to full participation in NAESB and enables them to obtain these standards at no cost.⁶² Non-members may obtain the Individual Standards Manual or Booklets for each standard by email for $250 per manual or booklet, which in the case of these standards would total $1,000.⁶³ Nonmembers also may obtain the complete set of Standards Manuals, Booklets, and Contracts on CD for $2,000. NAESB also provides a free electronic read-only version of the standards for a three business day period or, in the case of a regulatory comment period, through the end of the comment period.⁶⁴ In addition, NAESB considers requests for waivers of the charges on a case by case basis based on need.

⁶⁰ 18 CFR 284.12.

⁶¹ As a private, consensus standards developer, NAESB needs the funds obtained from its membership fees and sales of its standards to finance the organization. The parties affected by these Commission regulations generally are highly sophisticated and have the means to acquire the information they need to effectively participate in Commission proceedings.

⁶² North American Energy Standards Board Membership Application, https://www.naesb.org/pdf4/naesbapp.pdf.

⁶³ NAESB Materials Order Form, https://www.naesb.org//pdf/ordrform.pdf.

⁶⁴ Procedures for non-members to evaluate work products before purchasing, https://www.naesb.org/misc/NAESB_Nonmember_Evaluation.pdf. See Incorporation by Reference, 79 FR at 66271, n. 51 & 53 (Nov. 7, 2014) (citing to NAESB's procedure of providing “no-cost, no-print electronic access,” NAESB Comment, at 1, available at http://www.regulations.gov/#!documentDetail;D=OFR-2013-0001-0023).

VI. Information Collection Statement

47. The collections of information for this Final Rule are being submitted to the Office of Management and Budget (OMB) for review under section 3507(d) of the Paperwork Reduction Act of 1995 ⁶⁵ and OMB's implementing regulations.⁶⁶ OMB must approve information collection requirements imposed by agency rules. The burden estimates for this Final Rule are for one-time implementation of the information collection requirements of this Final Rule (including tariff filing, documentation of the process and procedures, and IT work), and ongoing burden.

⁶⁵ 44 U.S.C. 3507(d).

⁶⁶ 5 CFR 1320.

48. The Commission solicits comments from the public on the Commission's need for this information, whether the information will have practical utility, the accuracy of the burden estimates, recommendations to enhance the quality, utility, and clarity of the information to be collected, and any suggested methods for minimizing respondents' burden, including the use of automated information techniques. The burden estimates are for implementing the information collection requirements of this Final Rule. The Commission asks that any revised burden estimates submitted by commenters include the details and assumptions used to generate the estimates.

49. The collections of information related to this Final Rule fall under FERC-545 (Gas Pipeline Rates: Rate Change (Non-Formal)) ⁶⁷ and FERC-549C (Standards for Business Practices of Interstate Natural Gas Pipelines).⁶⁸ The following estimates of reporting burden are related only to this Final Rule and include the costs to pipelines to comply with the Commission's directives in this Final Rule. The burden estimates are primarily related to start-up to implement these standards and regulations and will not result in ongoing costs.

⁶⁷ FERC-545 covers rate change filings made by natural gas pipelines, including tariff changes.

⁶⁸ FERC-549C covers Standards for Business Practices of Interstate Natural Gas Pipelines.

One-Time Effects of NOPR in Docket RM96-1-038
[Rounded]
| Number of respondents ⁶⁹ | Annual number of responses per respondent | Total number of responses | Average burden and cost per response | Total annual burden hours and total annual cost | Cost per respondent ⁷⁰ ($)
| (1) | (2) | (1)*(2)=(3) | (4) | (3)*(4)=(5) | (5)÷(1)
FERC-545A ⁷¹ | 165 | 1 | 165 | 10 hrs.; $837 | 1,650 hrs.; $138,056 | $837
FERC-549C ⁷² | 165 | 1 | 165 | 22 hrs.; $1,841 | 3,630 hrs.; $303,722 | $1,841
Totals |  |  |  |  | 5,280 hrs.; $441,778

Information Collection Costs: The Commission estimates the average annualized cost for all respondents to be the following:

⁶⁹ The number of respondents is the number of entities in which a change in burden from the current standards to the proposed exists, not the total number of entities from the current or proposed standards that are applicable.

⁷⁰ Wage data is based on the Bureau of Labor Statistics data for 2012 (“May 2012 National Industry-Specific Occupational Employment and Wage Estimates, [for] Sector 22—Utilities” at http://bls.gov/oes/current/naics2_22.htm) and is compiled for the top 10 percent earned. For the estimate of the benefits component, see http://www.bls.gov/news.release/ecec.nr0.htm.

⁷¹ The mean hourly cost of tariff filings and implementation for interstate natural gas pipelines is $83.67. This represents the average wage (salary and benefits for 2,080 annual work-hours) of the following occupational categories: “Legal” ($128.02 per hour), “Computer Analyst” ($83.50 per hour), and “Office and Administrative” ($39.49 per hour). Wage data is available from the Bureau of Labor Statistics at http://bls.gov/oes/current/naics2_22.htm and is compiled for the top 10 percent earned. For the estimate of the benefits component, see http://www.bls.gov/news.release/ecec.nr0.htm.

⁷² The mean hourly cost of tariff filings and implementation for interstate natural gas pipelines is $83.67. It is composed of the skill sets and related hourly costs described above.

| FERC-545 | FERC-549C
Annualized Capital/Startup Costs | $138,056 | $303,722
Annualized Costs (Operations & Maintenance) | N/A | N/A
Total Annualized Costs | $138,056 | $303,722
Total Cost for all Respondents = $441,778.

OMB regulations require OMB to approve certain information collection requirements imposed by agency rule. The Commission is submitting notification of this Final Rule to OMB. These information collections are mandatory requirements.

Title: FERC-545,⁷³ Gas Pipeline Rates: Rates Change (Non-Formal); FERC-549C, Standards for Business Practices of Interstate Natural Gas Pipelines

⁷³ In the supporting statement for the NOPR, we submitted Gas and Pipeline Rates: Rate Changes (non-formal) under the temporary collection no. FERC-545A to ensure timely submission to OMB as another unrelated item was pending OMB review under FERC-545 (and only one item per collection can be pending at OMB).

Action: Information collections.

OMB Control Nos.: 1902-0154, 1902-0174

Respondents: Business or other for profit (i.e., Natural Gas Pipelines, applicable to only a few small businesses). Although the intraday reporting requirements will affect electric plant operators, the Commission is not imposing the reporting burden of adopting these standards on those entities.

Frequency of Responses: One-time implementation (business procedures, capital/start-up).

50. Internal Review: The Commission has reviewed the proposed business practice standards of natural gas pipelines and has determined that the revisions the Commission makes in this Final Rule to its regulations are necessary to establish more efficient coordination between the natural gas and electric industries. Requiring such information ensures both a common means of communication and common business practices to eliminate miscommunication for participants engaged in the sale of electric energy at wholesale and the transportation of natural gas. These requirements conform to the Commission's plan for efficient information collection, communication, and management within the natural gas pipeline industry. The Commission has assured itself, by means of its internal review, that there is specific, objective support for the burden estimates associated with the information requirements.

51. Interested persons may obtain information on the reporting requirements by contacting the following: Federal Energy Regulatory Commission, 888 First Street NE., Washington, DC 20426 [Attention: Ellen Brown, Office of the Executive Director, email: DataClearance@ferc.gov, phone: (202) 502-8663, fax: (202) 273-0873].

52. Comments concerning the collections of information and the associated burden estimates should be sent to the Commission and to the Office of Management and Budget, Office of Information and Regulatory Affairs, Washington, DC 20503 [Attention: Desk Officer for the Federal Energy Regulatory Commission, telephone: (202) 395-0710, fax: (202) 395-4718]. For security reasons, comments to OMB should be submitted by email to: oira_submission@omb.eop.gov. Comments submitted to OMB should include OMB Control Numbers 1902-0154 and 1902-0174.

VII. Environmental Analysis

53. The Commission concludes that neither an Environmental Assessment nor an Environmental Impact Statement is required for this Final Rule under section 380.4(a) of the Commission's regulations, which provides a categorical exemption for actions that are clarifying, corrective, or procedural, or that do not substantively change the effect of legislation or regulations being amended, for information gathering, analysis, and dissemination, or for the sale, exchange, or transportation of natural gas under sections 4, 5, and 7 of the Natural Gas Act that require no construction of facilities.⁷⁴

⁷⁴ See 18 CFR 380.4(a)(2)(ii), 380.4(a)(5), 380.4(a)(27).

VIII. Regulatory Flexibility Act

54. The Regulatory Flexibility Act of 1980 (RFA) ⁷⁵ generally requires a description and analysis of final rules that will have significant economic impact on a substantial number of small entities. The Small Business Administration (SBA) revised its size standard (effective January 22, 2014) for electric utilities from a standard based on megawatt hours to a standard based on the number of employees including affiliates.⁷⁶

⁷⁵ 5 U.S.C. 601-612.

⁷⁶ SBA Final Rule on “Small Business Size Standards: Utilities,” 78 FR 77343 (Dec. 23, 2013).

55. This Final Rule applies only to interstate natural gas pipelines, most of which are not small businesses. The Commission estimates that approximately 165 interstate pipeline entities are potential respondents subject to the data reporting requirements of FERC-545 and also are subject to data collection FERC 549-C reporting requirements. For the year 2012 (the most recent year for which information is available), only eleven companies not affiliated with larger companies had annual revenues of less than $25.5 million and are defined by the SBA as “small entities.” These companies constitute about seven percent of the total universe of potential respondents. The Commission estimates that the one-time implementation cost of the proposals in this Final Rule is $441,778 (or $2,677 per entity, regardless of entity size).⁷⁷ The Commission does not consider the estimated $2,677 impact per entity to be significant. Moreover, these requirements are designed to benefit all customers, including small businesses that must comply with them. Further, as noted above, adoption of consensus standards helps ensure the reasonableness of the standards by requiring that the standards draw support from a broad spectrum of industry participants representing all segments of the industry. Because of that representation and the fact that industry conducts business under these standards, the Commission's regulations should reflect those standards that have the widest possible support. Accordingly, pursuant to § 605(b) of the RFA,⁷⁸ the Commission certifies that this Final Rule will not have a significant economic impact on a substantial number of small entities.

⁷⁷ This number is derived by dividing the total cost figure by the number of respondents. $441,778/165 = $2,677.

⁷⁸ 5 U.S.C. 605(b).

IX. Document Availability

56. In addition to publishing the full text of this document in the Federal Register, the Commission provides all interested persons an opportunity to view and/or print the contents of this document via the Internet through FERC's Home Page (http://www.ferc.gov) and in FERC's Public Reference Room during normal business hours (8:30 a.m. to 5:00 p.m. Eastern time) at 888 First Street NE., Room 2A, Washington, DC 20426.

57. From FERC's Home Page on the Internet, this information is available on eLibrary. The full text of this document is available on eLibrary in PDF and Microsoft Word format for viewing, printing, and/or downloading. To access this document in eLibrary, type the docket number excluding the last three digits of this document in the docket number field.

58. User assistance is available for eLibrary and the FERC's Web site during normal business hours from FERC Online Support at 202-502-6652 (toll free at 1-866-208-3676) or email at ferconlinesupport@ferc.gov, or the Public Reference Room at (202) 502-8371, TTY (202) 502-8659. Email the Public Reference Room at public.referenceroom@ferc.gov.

X. Effective Date and Congressional Notification

59. These regulations are effective December 2, 2015. The Commission has determined (with the concurrence of the Administrator of the Office of Information and Regulatory Affairs of OMB) that this rule is not a “major rule” as defined in section 351 of the Small Business Regulatory Enforcement Fairness Act of 1996. This Final Rule is being submitted to the Senate, House, and Government Accountability Office.

List of Subjects

18 CFR Parts 157 and 260

Natural gas, Reporting and recordkeeping requirements.

18 CFR Part 284

Incorporation by reference, Natural gas, Reporting and recordkeeping requirements.

By the Commission.
Issued: October 16, 2015.
Kimberly D. Bose,
Secretary.

In consideration of the foregoing, the Commission amends parts 157, 260, and 284, chapter I, title 18, Code of Federal Regulations, as follows.

PART 157—APPLICATIONS FOR CERTIFICATES OF PUBLIC CONVENIENCE AND NECESSITY AND FOR ORDERS PERMITTING AND APPROVING ABANDONMENT UNDER SECTION 7 OF THE NATURAL GAS ACT

1. The authority citation for part 157 continues to read as follows:

Authority: 15 U.S.C. 717-717z.

2. Section 157.14 is amended by revising paragraph (a) to read as follows:

§ 157.14 Exhibits.

(a) To be attached to each application. All exhibits specified must accompany each application when tendered for filing. Together with each exhibit applicant must provide a full and complete explanation of the data submitted, the manner in which it was obtained, and the reasons for the conclusions derived from the exhibits. If the Commission determines that a formal hearing upon the application is required or that testimony and hearing exhibits should be filed, the Secretary will promptly notify the applicant that submittal of all exhibits and testimony of all witnesses to be sponsored by the applicant in support of his case-in-chief is required. Submittal of these exhibits and testimony must be within 20 days from the date of the Secretary's notice, or any other time as the Secretary will specify. Exhibits, except exhibits F, F- 1, G, G-I, and G-II, must be submitted to the Commission on electronic media as prescribed in § 385.2011 of this chapter. Receipt and delivery point information required in various exhibits must be labeled with a location point name and code in conformity with the location name and code the pipeline has adopted in conformance with § 284.13(f) of this chapter. Intervenors and persons becoming intervenors after the date of the Secretary's notice must be advised by the applicant of the afore-specified exhibits and testimony, and must be furnished with copies upon request. If this section requires an applicant to reveal Critical Energy Infrastructure Information (CEII), as defined by § 388.113(c) of this chapter, to any person, the applicant shall follow the procedures set out in § 157.10(d).

* * * * *

3. Section 157.18 is amended by revising paragraph (c) introductory text to read as follows:

§ 157.18 Applications to abandon facilities or service; exhibits.

(c) Exhibit V—Flow diagram showing daily design capacity and reflecting operation of applicant's system after abandonment. Receipt and delivery point information required in various exhibits must be labeled with a location point name and code in accordance with the location name and code the pipeline has adopted in conformance with § 284.13(f) of this chapter. A flow diagram showing daily design capacity and reflecting operating conditions of applicant's system after abandonment of facilities on that segment of the system affected by the abandonment, including the following:

* * * * *

PART 260—STATEMENTS AND REPORTS (SCHEDULES)

4. The authority citation for part 260 continues to read as follows:

Authority: 15 U.S.C. 717-717z, 3301-3432; 42 U.S.C. 7101-7352.

5. Section 260.8 is amended by revising paragraph (a) to read as follows:

§ 260.8 System flow diagrams: Format No. FERC 567.

(a) Each Major natural gas pipeline company, having a system delivery capacity in excess of 100,000 Mcf per day (measured at 14.73 p.s.i.a. and 60° F), shall file with the Commission by June 1 of each year five (5) copies of a diagram or diagrams reflecting operating conditions on its main transmission system during the previous twelve months ended December 31. For purposes of system peak deliveries, the heating season overlapping the year's end shall be used. Facilities shall be those installed and in operation on December 31 of the reporting year. All volumes shall be reported on a uniform stated pressure and temperature base. Receipt and delivery point information required in various exhibits must be labeled with a location point name and code in accordance with the location name and code adopted by the pipeline in accordance with § 284.13(f) of this chapter.

* * * * *

PART 284—CERTAIN SALES AND TRANSPORTATION OF NATURAL GAS UNDER THE NATURAL GAS POLICY ACT OF 1978 AND RELATED AUTHORITIES

6. The authority citation for part 284 continues to read as follows:

Authority: 15 U.S.C. 717-717z, 3301-3432; 42 U.S.C. 7101-7352; 43 U.S.C. 1331-1356.

7. Section 284.12 is amended by revising paragraph (a)(1) to read as follows:

§ 284.12 Standards for pipeline business operations and communications.

(a) * * *

(1) An interstate pipeline that transports gas under subparts B or G of this part must comply with the business practices and electronic communications standards as promulgated by the North American Energy Standards Board, as incorporated herein by reference in paragraphs (a)(1)(i) thru (vii) of this section.

(i) Additional Standards (Version 3.0, November 14, 2014, with minor corrections applied through June 29, 2015);

(ii) Nominations Related Standards (Version 3.0, November 14, 2014, with minor corrections applied through June 29, 2015);

(iii) Flowing Gas Related Standards (Version 3.0, November 14, 2014, with minor corrections applied through June 29, 2015);

(iv) Invoicing Related Standards (Version 3.0, November 14, 2014, with minor corrections applied through June 29, 2015);

(v) Quadrant Electronic Delivery Mechanism Related Standards (Version 3.0, November 14, 2014, with minor corrections applied through June 29, 2015);

(vi) Capacity Release Related Standards (Version 3.0, November 14, 2014, with minor corrections applied through June 29, 2015); and

(vii) Internet Electronic Transport Related Standards (Version 3.0, November 14, 2014, with minor corrections applied through June 29, 2015).

* * * * *

8. Section 284.13 is amended by revising paragraphs (b)(1)(vi), (b)(2)(iv) and (c)(2)(vi), and adding paragraph (f) to read as follows:

§ 284.13 Reporting requirements for interstate pipelines.

(b) * * *

(1) * * *

(vi) The receipt and delivery points and the zones or segments covered by the contract, including the location name and code adopted by the pipeline in conformance with paragraph (f) of this section for each point, zone or segment;

* * * * *

(2) * * *

(iv) The receipt and delivery points and the zones or segments covered by the contract, including the location name and code adopted by the pipeline in conformance with paragraph (f) of this section for each point, zone or segment;

* * * * *

(c) * * *

(2) * * *

(vi) The receipt and delivery points and the zones or segments covered by the contract, including the location name and code adopted by the pipeline in conformance with paragraph (f) of this section for each point, zone or segment;

* * * * *

(f) Location codes. An interstate pipeline must maintain a posting on its publicly available Internet Web site of the pipeline's location names and codes for all current and inactive receipt and delivery points on its system, including, for each point: Direction of flow, the location of the point, the location zone if such exists, the Commission company identification code (CID), if any, of the upstream and/or downstream entity, the location type, the current status as active and inactive, and the date(s) the point becomes active or inactive. The pipeline must provide the information in downloadable file formats, in conformity with the requirements of 18 CFR 284.12 of this chapter.

9. Section 284.126 is amended by revising paragraph (b)(1)(iv) to read as follows:

§ 284.126 Reporting requirements.

(b) * * *

(1) * * *

(iv) The primary receipt and delivery points covered by the contract, identified by the list of points that the pipeline has published with the Commission;

* * * * *

[FR Doc. 2015-27806 Filed 10-30-15; 8:45 am]

BILLING CODE 6717-01-P